ENVIRONMENTAL PROTECTION AGENCY

[EPA-HQ-OPP-2024-0093; FRL-12575-01-OCSPP]

Cancellation Order for Certain Pesticide Registrations and/or Amendments To Terminate Uses

AGENCY: Environmental Protection Agency (EPA).

ACTION: Notice.

SUMMARY: This notice announces EPA's order for the cancellations and/or amendments to terminate uses, voluntarily requested by the registrants and accepted by the Agency, pursuant to the Federal Insecticide, Fungicide, and Rodenticide Act (FIFRA). This cancellation order follows a December 17, 2024, Federal Register Notice of Receipt of Requests from the registrants listed in Table 3 of Unit II to voluntarily cancel and/or amend to terminate uses of all these product registrations. In the December 17, 2024, notice, EPA indicated that it would issue an order implementing the cancellations and/or amendments to terminate uses, unless the Agency received substantive comments within the 30-day comment period that would merit its further review of these requests, or unless the registrants withdrew their requests. The Agency received one anonymous comment on the notice, but it did not merit its further review of the requests. Further, the registrants did not withdraw their requests. Accordingly, EPA hereby issues in this notice a cancellation order granting the requested cancellations and/or amendments to terminate uses. Any distribution, sale, or use of the products subject to this cancellation order is permitted only in accordance with the terms of this order, including any existing stocks provisions.

DATES: The cancellations and/or amendments are effective July 2, 2025.

FOR FURTHER INFORMATION CONTACT: Christopher Green, Registration Division (7505T), Office of Pesticide Programs, Environmental Protection Agency, 1200 Pennsylvania Ave. NW, Washington, DC 20460-0001; telephone number: (202) 566-2707; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How Can I Get Copies of this Document and Other Related Information?

The docket for this action, identified by docket identification (ID) number EPA-HQ-OPP-2024-0093, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (202) 566-1744. Please review the visitor instructions and additional information about the docket available at https://www.epa.gov/dockets.

II. What Action is the Agency Taking?

This notice announces the cancellations and/or amendments to terminate uses, as requested by registrants, of products registered under FIFRA section 3 (7 U.S.C. 136a). These registrations are listed in sequence by registration number in Tables 1 and 2 of this unit.

Table 1—Product Cancellations
Registration No. | Company No. | Product name | Active ingredients
279-3455 | 279 | Marvel Herbicide | Fluthiacet-methyl (108803/117337-19-6)—(1.2%), Fomesafen (123803/72178-02-0)—(30.08%).
279-3568 | 279 | Dawn Herbicide | Sodium salt of fomesafen (123802/108731-70-0)—(22.8%).
279-3569 | 279 | Rhythm Herbicide | Sodium salt of fomesafen (123802/108731-70-0)—(22.1%).
2749-642 | 2749 | Dicrotophos Technical | Dicrotophos (035201/141-66-2)—(85%).
2749-643 | 2749 | Dicromax XP Insecticide | Bifenthrin (128825/82657-04-3)—(10.8%), Dicrotophos (035201/141-66-2)—(43.1%).
7401-38 | 7401 | Ferti-Lome Liquid Carbaryl Home Garden Spray | Carbaryl (056801/63-25-2)—(23.7%).
7401-69 | 7401 | Ferti Lome Garden Dust | Carbaryl (056801/63-25-2)—(5%).
7401-166 | 7401 | Hi-Yield 10% Carbaryl Garden Dust | Carbaryl (056801/63-25-2)—(10%).
9386-34 | 9386 | AMA-204 | Terbuthylazine (080814/5915-41-3)—(4%).
9386-42 | 9386 | AMA-2500G | Glutaraldehyde (043901/111-30-8)—(25%).
9386-43 | 9386 | AMA-1500G | Glutaraldehyde (043901/111-30-8)—(15%).
9386-46 | 9386 | AMA-480WB | 1,2-Benzisothiazolin-3-one (098901/2634-33-5)—(19%).
9386-47 | 9386 | AMA-80S | 1,2-Benzisothiazolin-3-one (098901/2634-33-5)—(19%).
33427-35 | 33427 | Dicrotophos Technical | Dicrotophos (035201/141-66-2)—(85%).
47000-113 | 47000 | Roberts Dust'M | Gardona (cis-isomer) (083702/22248-79-9)—(3%).
47000-122 | 47000 | RL-2-Rabon Livestock Dust | Gardona (cis-isomer) (083702/22248-79-9)—(3%).
47000-125 | 47000 | Crown All Purpose Livestock and Poultry Dust with Rabon | Gardona (cis-isomer) (083702/22248-79-9)—(3%).
FL-080008 | 62719 | GF-120 NF Naturalyte Fruit Fly Bait | Spinosad (110003/131929-60-7)—(.02%).
MN-230002 | 87865 | Spin-Aid Herbicide | Phenmedipham (098701/13684-63-4)—(15.9%).
NC-090001 | 62719 | Lorsban Advanced | Chlorpyrifos (059101/2921-88-2)—(40.2%).
NC-090004 | 62719 | Lorsban Advanced | Chlorpyrifos (059101/2921-88-2)—(40.2%).
NC-180002 | 5481 | Parazone 3SL Herbicide | Paraquat dichloride (061601/1910-42-5)—(43.8%).
ND-230001 | 87865 | Spin-Aid Herbicide | Phenmedipham (098701/13684-63-4)—(15.9%).
NY-120006 | 67690 | SP 1908 Aquatic Herbicide | Fluridone (112900/59756-60-4)—(6.3%).
NY-120017 | 67690 | Sonar SRP | Fluridone (112900/59756-60-4)—(5%).
NY-130001 | 67690 | Sonar X | Fluridone (112900/59756-60-4)—(5%).
TX-040027 | 62719 | Lock-On | Chlorpyrifos (059101/2921-88-2)—(22.9%).
TX-080018 | 62719 | Starane Ultra | Fluroxypyr 1-methylheptyl ester (128968/81406-37-3)—(45.52%).
TX-180004 | 62719 | Lorsban Advanced | Chlorpyrifos (059101/2921-88-2)—(40.2%).
TX-220002 | 100 | Gramoxone® SL 2.0 | Paraquat dichloride (061601/1910-42-5)—(30.1%).
WY-180001 | 5481 | Parazone 3SL Herbicide | Paraquat dichloride (061601/1910-42-5)—(43.8%).

Table 2—Product Registration Amendments to Terminate Uses
Registration No. | Company No. | Product name | Active ingredient | Uses to be terminated
8383-3 | 8383 | Sporicidin Disinfectant Solution | Phenol (064001/108-95-2)—(1.56%), Sodium phenate (064002/139-02-6)—(.06%) | Fogging Use.

Table 3 of this unit includes the names and addresses of record for all registrants of the products in Tables 1 and 2 of this unit, in sequence by EPA company number. This number corresponds to the first part of the EPA registration numbers of the products listed above.

Table 3—Registrants of Cancelled and/or Amended Products
EPA Company Number | Company Name and Address
100 | Syngenta Crop Protection, LLC, 410 Swing Road, P.O. Box 18300, Greensboro, NC 27419-8300.
279 | FMC Corporation, 2929 Walnut Street, Philadelphia, PA 19104.
2749 | Aceto Life Sciences, L.L.C., D/B/A Actylis, Agent Name: Product & Regulatory Associates, LLC, 8595 Collier Blvd., Suite 107-51, Naples, FL 34114.
5481 | AMVAC Chemical Corporation, 4695 MacArthur Court, Suite 1200, Newport Beach, CA 92660-1706.
7401 | Voluntary Purchasing Groups, Inc., Agent Name: Pyxis Regulatory Consulting, Inc., 535 Dock Street, Suite 211, Tacoma, WA 98402.
8383 | Contec, Inc., 525 Locust Grove, Spartanburg, SC 29303.
9386 | Kemira Water Solutions, Inc., Agent Name: Ramboll, 4245 North Fairfax Drive, Suite 700, Arlington, VA 22203.
33427 | Aceto US, L.L.C., D/B/A/Actylis, Agent Name: Product & Regulatory Associates, LLC, 8595 Collier Blvd., Suite 107-51, Naples, FL 34114.
47000 | Chem-Tech, Ltd., 620 Lesher Place, Lansing, MI 48912.
62719 | Corteva Agriscience, LLC, 9330 Zionsville Road, Indianapolis, IN 46268.
67690 | SePRO Corporation, 11550 N. Meridian Street, Suite 600, Carmel, IN 46032.
87865 | Belchim Crop Protection US Corporation, 225 Wilmington West Chester Pike, Suite 200, Chadds Ford, PA 19317

III. Summary of Public Comments Received and Agency Response to Comments

The Agency received one anonymous comment supporting the cancellation of products containing Glutaraldehyde. For these reasons, the Agency does not believe that the comments submitted during the comment period merit further review or a denial of the requests for voluntary cancellation and/or use termination.

IV. Cancellation Order

Pursuant to FIFRA section 6(f) (7 U.S.C. 136d(f)(1)), EPA hereby approves the requested cancellations and/or amendments to terminate uses of pesticide registrations identified in Tables 1 and 2 of Unit II. Accordingly, the Agency hereby orders that the product registrations identified in Tables 1 and 2 of Unit II, are canceled and/or amended to terminate the affected uses. The effective date of the cancellations that are subject of this notice is July 2, 2025. Any distribution, sale, or use of existing stocks of the products identified in Tables 1 and 2 of Unit II, in a manner inconsistent with any of the provisions for disposition of existing stocks set forth in Unit VI, will be a violation of FIFRA.

V. What is the Agency's Authority for Taking this Action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of December 17, 2024, (89 FR 102138 (FRL-12320-01-OCSPP)). The comment period closed on January 16, 2025.

VI. Provisions for Disposition of Existing Stocks

Existing stocks are those stocks of registered pesticide products which are currently in the United States, and which were packaged, labeled, and released for shipment prior to the effective date of the action. The existing stocks provision for the products subject to this order is as follows.

For voluntary cancellations, the registrants may continue to sell and distribute existing stocks of products listed in Table 1 until July 2, 2026, which is 1 year after publication of this cancellation order in the Federal Register. Thereafter, the registrants are prohibited from selling or distributing products listed in Table 1 of Unit II, except for export in accordance with FIFRA section 17 (7 U.S.C. 136o) or for proper disposal.

Now that EPA has approved product labels reflecting the requested amendments to terminate uses, registrants are permitted to sell or distribute products listed in Table 2 of Unit II, under the previously approved labeling until December 30, 2026, a period of 18 months after publication of the cancellation order in the Federal Register, unless other restrictions have been imposed. Thereafter, registrants will be prohibited from selling or distributing the products whose labels include the terminated uses identified in Table 2 of Unit II, except for export consistent with FIFRA section 17 or for proper disposal.

Persons other than the registrant may sell, distribute, or use existing stocks of canceled products and/or products whose labels include the terminated uses until supplies are exhausted, provided that such sale, distribution, or use is consistent with the terms of the previously approved labeling on, or that accompanied, the canceled products and/or terminated uses.

Authority: 7 U.S.C. 136 et seq.

Dated: June 26, 2025.
Charles Smith,
Director, Registration Division, Office of Pesticide Programs.

[FR Doc. 2025-12324 Filed 7-1-25; 8:45 am]

BILLING CODE 6560-50-P